DEPARTMENT OF TRANSPORTATION

Federal Aviation Administration

14 CFR Part 25

[Docket No. FAA-2018-0335; Special Conditions No. 25-725-SC]

Special Conditions: Bombardier Inc., Model BD-700-2A12 and BD-700-2A13 Series Airplanes; Flight Envelope Protection: High Incidence Protection System

AGENCY: Federal Aviation Administration (FAA), DOT.

ACTION: Final special conditions; correction.

SUMMARY: The FAA is correcting an error that appeared in the Federal Register on May 1, 2018, for special conditions No. 25-725-SC, Docket No. FAA-2018-0335. As published, there was an error in the citation and the correct citation has been added.

DATES: Effective on Bombardier on September 5, 2018.

FOR FURTHER INFORMATION CONTACT: Joe Jacobsen, Airplane and Flight Crew Interface, AIR-671, Transport Standards Branch, Policy and Innovation Division, Aircraft Certification Service, Federal Aviation Administration, 2200 South 216th Street, Des Moines, Washington 98198; telephone and fax 206-231-3158; email Joe.Jacobsen@faa.gov.

SUPPLEMENTARY INFORMATION:

Background

On April 25, 2018, the FAA issued Special Conditions No. 25-725-SC, Docket No. FAA-2018-0335, which was published in the Federal Register on May 1, 2018 (83 FR 18934). Those special conditions pertain to the high incidence protection system that replaces the stall warning system during normal operating conditions, prohibits the airplane from stalling, limits the angle of attack at which the airplane can be flown during normal low speed operation, and cannot be overridden by the flight crew for Bombardier Model BD-700-2A12 and BD-700-2A13 series airplanes. As published, part II, paragraph 7 of the final special conditions cited § 25.143(j)(2)(i) instead of § 25.143(j)(1). There are no substantive changes to the document and it was apparent that § 25.143(j)(1) should have been referenced from the beginning.

Correction

In the final special conditions document FR Doc. 2018-09126 (Filed 4-30-2018; 8:45 a.m.), published on May 1, 2018 (83 FR 18934), make the following correction:

On page 18938, column 2, under part II, paragraph 7, correct “§ 25.143(j)(2)(i)” to read “§ 25.143(j)(1)”.

Issued in Des Moines, Washington, on August 27, 2018.
Victor Wicklund,
Manager, Transport Standards Branch, Policy and Innovation Division, Aircraft Certification Service.

[FR Doc. 2018-19215 Filed 9-4-18; 8:45 am]

BILLING CODE 4910-13-P